DEPARTMENT OF AGRICULTURE

Submission for OMB Review; Comment Request

August 25, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program Application for Stores—Reauthorization.

OMB Control Number: 0584-NEW.

Summary of Collection: The Food and Nutrition Service (FNS) of the U.S. Department of Agriculture is the Federal agency responsible for the Supplemental Nutrition Assistance Program (SNAP) formerly known as the Food Stamp Program. The Food and Nutrition Act of 2008 (7 U.S.C. 2011-2036), as codified under 7 CFR Parts 278 and 279, requires that the FNS determine the eligibility of retail food stores and certain food service organizations to accept and redeem SNAP benefits, to monitor them for compliance and continued eligibility, and to sanction stores for non-compliance with the Act.

Need and Use of the Information: FNS will collect information using form FNS-252-R, “Supplemental Nutrition Assistance Program Reauthorization Application for Stores”. Information is collected primarily for use by FNS in the administration of the SNAP. FNS field offices review a firm's application in order to determine whether or not applicants meet eligibility requirements and make determinations whether to grant or deny authorization to accept SNAP benefits. FNS is also responsible for requiring updates to application information and reviewing that information to determine whether or not the firms or services continue to meet eligibility requirements.

Description of Respondents: Business or other for-profit.

Number of Respondents: 27,878.

Frequency of Responses: Reporting: On occasion.

Total Burden Hours: 3,259.

Ruth Brown,
Departmental Information Collection Clearance Officer.

[FR Doc. E9-20858 Filed 8-28-09; 8:45 am]

BILLING CODE 3410-30-P